FEDERAL RESERVE SYSTEM

Change in Bank Control Notices; Acquisitions of Shares of Banks or Bank Holding Companies

The notificants listed below have applied under the Change in Bank Control Act (12 U.S.C. 1817(j)) and 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 9, 2000.

A. Federal Reserve Bank of Atlanta. (Cynthia C. Goodwin, Vice President) 104 Marietta Street, N.W., Atlanta, Georgia 30303-2713:

1. Nathan L. Carriere, Jr., and Peggy Smith Carriere, Maringouin, Louisiana; to acquire additional voting shares of Banque of Maringouin Holding Company, Maringouin, Louisiana, and thereby indirectly acquire additional voting shares of Bank of Maringouin, Maringouin, Louisiana.

2. Alton B. Smith, Jr., and Luella D. Smith, Maringouin, Louisiana; to acquire additional voting shares of Banque of Maringouin Holding Company, Maringouin, Louisiana, and thereby indirectly acquire additional voting shares of Bank of Maringouin, Maringouin, Louisiana.

3. Alfred Newman, Sevierville, Tennessee, to acquire additional voting shares of Tennessee State Bancshares, Inc., Pigeon Forge, Tennessee, and thereby indirectly acquire additional voting shares of Tennessee State Bank, Pigeon Forge, Tennessee.

Board of Governors of the Federal Reserve System, October 20, 2000.
Jennifer J. Johnson,
Secretary of the Board.

[FR Doc. 00-27442 Filed 10-24-00; 8:45 am]

BILLING CODE 6210-01-P